DEPARTMENT OF COMMERCE

National Oceanic and Atmospheric Administration

RIN: 0648-XX88

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Golden Crab Advisory Panel in North Charleston, SC. See SUPPLEMENTARY INFORMATION.

DATES: The meeting will take place August 18, 2010, from 8:30 a.m. until 5 p.m.

ADDRESSES: The meeting will be held at the South Atlantic Fishery Management Council office, 4055 Faber Place Drive, Suite 201, North Charleston, SC; telephone: (843) 571-4366 or toll free: (866) SAFMC-10.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: The Golden Crab Advisory Panel will receive an update on the draft catch share amendment to the Golden Crab Fishery Management Plan, review Annual Catch Limits and Overfishing Level values for the commercial golden crab fishery in the South Atlantic Economic Exclusive Zone (EEZ) and provide recommendations to the Council.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Dated: July 23, 2010.
Tracey L. Thompson,
Acting Director, Office of Sustainable Fisheries, National Marine Fisheries Service.

[FR Doc. 2010-18456 Filed 7-27-10; 8:45 am]

BILLING CODE 3510-22-S